DEPARTMENT OF HEALTH AND HUMAN SERVICES

Administration for Children and Families

Submission for OMB Review; Comment Request

Title: Implementation, Systems and Outcome Evaluation of the Tribal and Low-Income Health Profession Opportunity Grants (HPOG).

OMB No.: New Collection.

Description: The Administration for Children and Families (ACF) is proposing information collection activities as part of the Implementation, Systems and Outcome Evaluation of the Health Profession Opportunity Grants (HPOG). Through this information collection, ACE seeks to develop comprehensive management and performance reports on the HPOG initiative and design a feasible and reliable evaluation design to produce accurate evidence of the effect of HPOG on individuals and health job training programs systems.

The goals of the HPOG evaluation are to establish a performance management reporting process for HPOG, and design an evaluation of HPOG. Both goals require collecting information from HPOG grantees on a regular basis. The information collection proposed is an Internet-based collection of information from HPOG grantees on (1) program participants: Baseline characteristics, program participation and patterns, and participant outputs and outcomes; and (2) program designs and operating characteristics. The performance management system would collect information from grantees on their programs and participants on a bi-annual basis.

Respondents: Participant data to be collected by program staff in the 32 grantee organizations (higher education institutions, workforce investment boards, private training institutions, and tribal entities).

Annual Burden Estimates
Instrument | Annual number of respondents | Number of responses per respondent | Average burden hours per response | Total annual burden hours
Semi-annual HPOG Program Performance Report | 32 | 2 | 31.25 | 2,000

Estimated Total Annual Burden Hours: 2,000.

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-6974, Attn: Desk Officer for the Administration, for Children and Families.

Dated: June 9, 2011.
Steven M. Hanmer,
OPRE Reports Clearance Officer.

[FR Doc. 2011-14811 Filed 6-15-11; 8:45 am]

BILLING CODE 4184-09-M